DEPARTMENT OF ENERGY

Federal Energy Regulatory Commission

Notice of Institution of Section 206 Proceeding and Refund Effective Dates

| Docket Nos.
PJM Interconnection, L.L.C | EL25-49-000
Allegheny Electric Cooperative, Inc
American Transmission Systems, Incorporated
Atlantic City Electric Company
Baltimore Gas and Electric Company
Delmarva Power & Light Company
Duke Energy Ohio, Inc
Duke Energy Kentucky, Inc
East Kentucky Power Cooperative, Inc
Essential Power Rock Springs, LLC
Hudson Transmission Partners, LLC
Jersey Central Power & Light Company
Mid-Atlantic Interstate Transmission, LLC
Neptune Regional Transmission System, LLC
Old Dominion Electric Cooperative
PECO Energy Company
PPL Electric Utilities Corporation
Potomac Electric Power Company
Public Service Electric and Gas Company
Rockland Electric Company
Trans-Allegheny Interstate Line Company
Transource West Virginia, LLC
UGI Utilities, Inc
Monongahela Power Company
The Potomac Edison Company
Commonwealth Edison Company
Commonwealth Edison Company of Indiana, Inc
The Dayton Power and Light Company
AEP Appalachian Transmission Company, Inc
AEP Indiana Michigan Transmission Company, Inc
AEP Kentucky Transmission Company, Inc
AEP Ohio Transmission Company, Inc
AEP West Virginia Transmission Company, Inc
Appalachian Power Company
Indiana Michigan Power Company
Kentucky Power Company
Kingsport Power Company
Ohio Power Company
Wheeling Power Company
Duquesne Light Company
Virginia Electric and Power Company
Linden VFT, LLC
City of Cleveland, Department of Public Utilities, Division of Cleveland Public Power
City of Hamilton, OH
Southern Maryland Electric Cooperative, Inc
Ohio Valley Electric Corporation
AMP Transmission, LLC
Silver Run Electric, LLC
NextEra Energy Transmission MidAtlantic Indiana, Inc
Wabash Valley Power Association, Inc
Keystone Appalachian Transmission Company
Large Loads Co-Located at Generating Facilities | AD24-11-000
Constellation Energy Generation, LLC v. PJM Interconnection, L.L.C | EL25-20-000

On February 20, 2025, the Commission issued an order in Docket Nos. EL25-49-000, AD24-11-000 and EL25-20-000, pursuant to section 206 of the Federal Power Act (FPA), 16 U.S.C. 824e, instituting an investigation in Docket No. EL25-49-000 to determine whether PJM Interconnection, L.L.C.'s Tariff is unjust, unreasonable, unduly discriminatory or preferential, or otherwise unlawful. PJM Interconnection, L.L.C., 190 FERC ¶ 61,115 (2025).

The refund effective date in Docket No. EL25-49-000, established pursuant to section 206(b) of the FPA, will be the date of publication of this notice in the Federal Register. The refund effective date in Docket No. EL25-20-000, established pursuant to section 206(b) of the FPA, is November 22, 2024, the date Constellation filed the complaint.

Any interested person desiring to be heard in Docket No. EL25-49-000 must file a notice of intervention or motion to intervene, as appropriate, with the Commission, in accordance with Rule 214 of the Commission's Rules of Practice and Procedure, 18 CFR 385.214 (2024), within 21 days of the date of issuance of the order.

In addition to publishing the full text of this document in the Federal Register, the Commission provides all interested persons an opportunity to view and/or print the contents of this document via the internet through the Commission's Home Page (http://www.ferc.gov) using the “eLibrary” link. Enter the docket number excluding the last three digits in the docket number field to access the document. From FERC's Home Page on the internet, this information is available on eLibrary. The full text of this document is available on eLibrary in PDF and Microsoft Word format for viewing, printing, and/or downloading. To access this document in eLibrary, type the docket number excluding the last three digits of this document in the docket number field. User assistance is available for eLibrary and the FERC's website during normal business hours from FERC Online Support at 202-502-6652 (toll free at 1-866-208-3676) or email at ferconlinesupport@ferc.gov, or the Public Reference Room at (202) 502-8371, TTY (202) 502-8659. Email the Public Reference Room at public.referenceroom@ferc.gov.

The Commission strongly encourages electronic filings of comments, protests and interventions in lieu of paper using the “eFile” link at http://www.ferc.gov. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Carlos D. Clay,
Deputy Secretary.

[FR Doc. 2025-03184 Filed 2-26-25; 8:45 am]

BILLING CODE 6717-01-P